DEPARTMENT OF AGRICULTURE

Submission for OMB Review; Comment Request

February 27, 2013.

The Department of Agriculture will submit the following information collection requirement(s) to OMB for review and clearance under the Paperwork Reduction Act of 1995, Public Law 104-13 on or after the date of publication of this notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; OIRA_Submission@OMB.EOP.GOV or fax (202) 395-5806 and to Departmental Clearance Office, USDA, OCIO, Mail Stop 7602, Washington, DC 20250-7602.

Comments regarding these information collections are best assured of having their full effect if received by April 4, 2013. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Mandatory Country of Origin Labeling of All Covered Commodities.

OMB Control Number: 0581-0250.

Summary of Collection: The 2002 (Pub. L. 107-171) and 2008 (Pub. L. 110-234) Farm Bills amended the Agricultural Marketing Act of 1946 (7 U.S.C. 1621-1627) to require retailers to notify their customers of the country of origin of muscle cuts and ground beef (including veal), lamb, pork, chicken, and goat; wild and farm-raised fish and shellfish; perishable agricultural commodities; peanuts, pecans, and macadamia nuts; and ginseng. Individuals who supply covered commodities, whether directly to retailers or indirectly through other participants in the marketing chain, are required to establish and maintain country of origin and, if applicable, method of production information for the covered commodities and supply this information to retailers.

Need and Use of the Information: Producers, handlers, manufacturers, wholesalers, importers, and retailers of covered commodities are affected. This public reporting burden is necessary to ensure accuracy of country of origin and method of production declarations relied upon at the point of sale at retail. The public reporting burden also assures that all parties involved in supplying covered commodities to retail stores maintain and convey accurate information as required.

Description of Respondents: Business or other for-profit.

Number of Respondents: 1,384,833.

Frequency of Responses: Recordkeeping.

Total Burden Hours: 31,437,002.

Agricultural Marketing Service

Title: Farmers Market Directory and Survey.

OMB Control Number: 0581-0169.

Summary of Collection: The primary legislative basis for conducting farmer's market research is the Agricultural Marketing Act of 1946 (7 U.S.C. 1621-1627). In addition, the Farmer-to-Consumer Direct Marketing Act of 1976 supports USDA's work to enhance the effectiveness of direct marketing, such as the development of modern farmers markets. The Marketing Services Division (MSD), Agricultural Marketing Service (AMS) identifies marketing opportunities, provides analysis to help take advantage of those opportunities and develops and evaluates solutions including improving farmers markets and other direct-to-consumer marketing activities. Markets are maintained by State Departments of Agriculture, local public authorities, grower organizations and non-profit organizations.

Need and Use of the Information: MSD/AMS is combining the National Farmers Market Managers Survey with the annual update of the USDA National Farmers Market Directory, thereby reducing the number of times that it seeks to make contact with market managers. The information will be collected using the form TM-6 “Farmers' Market Directory and Survey.” These markets represent a varied range of sizes, geographical locations, types, ownership, and structure. These markets will provide a valid overview of farmers markets in the United States. Information such as the size of markets, operating times and days, retail and wholesale sales, management structure, and rules and regulations governing the markets are all important questions that need to be answered in the design of a new market. The information developed by this survey will support better designs, development techniques, and operating methods for modern farmers markets and outline improvements that can be applied to revitalize existing markets.

Description of Respondents: Not-for-profit institutions, Federal Government, State, Local or Tribal Government.

Number of Respondents: 7,865.

Frequency of Responses: Reporting: On occasion.

Total Burden Hours: 833.

Charlene Parker,
Departmental Information Collection Clearance Officer.

[FR Doc. 2013-04943 Filed 3-4-13; 8:45 am]

BILLING CODE 3410-02-P